DEPARTMENT OF HEALTH AND HUMAN SERVICES

Agency for Toxic Substances and Disease Registry

[ATSDR-204]

Availability of Final Toxicological Profiles

AGENCY: Agency for Toxic Substances and Disease Registry (ATSDR), Department of Health and Human Services (HHS).

ACTION: Notice of availability.

SUMMARY: This notice announces the availability of one update and four new final toxicological profiles, completing the 2nd set developed for the Department of Energy, prepared by ATSDR.

FOR FURTHER INFORMATION CONTACT: Ms. Yulandia Jordon, Office of Communication, Agency for Toxic Substances and Disease Registry, Mailstop E-29, 1600 Clifton Road, NE., Atlanta, Georgia 30333, telephone 1-888-422-8737 or (404)498-0261.

SUPPLEMENTARY INFORMATION: These toxicological profiles were developed by ATSDR for hazardous substances at Department of Energy (DOE) waste sites under Section 104(i)(3) and (5) of the Comprehensive Environmental Response, Compensation, and Liability Act of 1980 (CERCLA or Superfund). This public law directed ATSDR to prepare toxicological profiles for hazardous substances that are most commonly found at facilities on the CERCLA National Priorities List (NPL) and that pose the most significant potential threat to human health, as determined by ATSDR and the EPA. The current ATSDR priority list of hazardous substances at DOE NPL sites was announced in the Federal Register on July 24, 1996 (61 FR 38451).

Notices (66 FR 53610) and (66 FR 41243) announcing the availability of the draft toxicological profiles for public review and comment were published in the Federal Register on October 23, 2001, and August 7, 2001, with notice of a 90-day public comment period for each profile, starting from the actual release date. Following the close of the comment period, chemical-specific comments were addressed, and, where appropriate, changes were incorporated into each profile. The public comments and other data submitted in response to the Federal Register notices bear the docket control number ATSDR-174 and ATSDR-171. This material is available for public inspection at the Division of Toxicology, Agency for Toxic Substances and Disease Registry, 1825 Century Boulevard, Atlanta, Georgia, (not a mailing address) between 8 a.m. and 4:30 p.m., Monday through Friday, except legal holidays.

Availability

This notice announces the availability of one update and four new final toxicological profiles, comprising the 2nd set developed for the Department of Energy, prepared by ATSDR. The following toxicological profiles are now available through the U.S. Department of Commerce, National Technical Information Service (NTIS), 5285 Port Royal Road, Springfield, Virginia 22161, telephone 1-800-553-6847. There is a charge for these profiles as determined by NTIS.

Second Set of DOE Profiles
Toxicological profile | NTIS order No. | CAS No.
1. Americium | PB2004-104396 | 7440-35-9
2. Cesium | PB2004-104397 | 7440-46-2
3. Cobalt (Update) | PB2004-104398 | 7440-48-4
4. Iodine | PB2004-104399 | 7553-56-2
5. Strontium | PB2004-104400 | 7440-35-9

Georgi Jones,
Director, Office of Policy, Planning, and Evaluation, National Center for Environmental Health/Agency for Toxic Substances and Disease Registry.

[FR Doc. 04-23617 Filed 10-21-04; 8:45 am]

BILLING CODE 4163-70-P